DEPARTMENT OF THE INTERIOR

National Park Service

Notice of Inventory Completion: Milwaukee Public Museum, Milwaukee, WI

AGENCY: National Park Service, Interior.

ACTION: Notice.

Notice is here given in accordance with the Native American Graves Protection and Repatriation Act (NAGPRA), 25 U.S.C. 3003, of the completion of an inventory of human remains and associated funerary objects in the possession of the Milwaukee Public Museum, Milwaukee, WI. The human remains and associated funerary objects were removed from Fond du Lac, Green Lake, and Winnebago Counties, WI.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Milwaukee Public Museum professional staff and contract specialists in physical anthropology in consultation with representatives of the Ho-Chunk Nation of Wisconsin; Iowa Tribe of Kansas and Nebraska; Iowa Tribe of Oklahoma; Otoe¯Missouria Tribe of Indians, Oklahoma; and Winnebago Tribe of Nebraska.

In 1926, human remains representing a minimum of one individual were removed from a grave near Luco Creek (site 47-FD-242), Fond du Lac, Fond du Lac County, WI, during sewer construction. In 1926, Robert Weeks donated a glazed ceramic perfume bottle from this grave to the Milwaukee Public Museum. No known individual was identified. The one associated funerary object is a glazed ceramic perfume bottle.

The presence of the perfume bottle dates the burial to the 19th century. The human remains from this burial are currently in the possession of the Wisconsin Historical Society.

In 1931, human remains representing a minimum of one individual were removed from a location on the south shore of Lake Puckaway, Green Lake County, WI, by Rudolf Boettger. Mr. Boettger donated the human remains and an associated funerary object to the Milwaukee Public Museum in the same year. No known individuals were identified. The one associated funerary object is a copper alloy bracelet.

The presence of the bracelet dates the burial to circa A.D. 1770-1900.

In 1931 and 1932, human remains representing a minimum of two individuals were removed from the McCauley Campsite (47-WN-222), Oshkosh, Winnebago County, WI, by Arthur P. Kannenberg. The McCauley Campsite is located at the point where the Fox River flows into Lake Winnebago, between Frankfort and Eveline Streets, Oshkosh, WI. No known individuals were identified. No associated funerary objects are present.

Archeological evidence indicates that the McCauley site was inhabited during the historic period.

Based on cranial morphology and dental characteristics, the human remains are determined to be Native American. Archeological evidence and oral historical evidence provided during consultations indicate that Luco Creek, Lake Puckaway, and Lake Winnebago, WI, are located within the historic territory of the Ho¯Chunk Nation of Wisconsin and the Winnebago Tribe of Nebraska. The dates of occupation of the sites are consistent with the time period during which the Ho¯Chunk Nation of Wisconsin and the Winnebago Tribe of Nebraska inhabited the area.

Officials of the Milwaukee Public Museum have determined that, pursuant to 25 U.S.C. 3001 (9-10), the human remains described above represent the physical remains of at least three individuals of Native American ancestry. Officials of the Milwaukee Public Museum also have determined that, pursuant to 25 U.S.C. 3001 (3)(A), the two objects described above are reasonably believed to have been placed with or near individual human remains at the time of death or later as part of the death rite or ceremony. Lastly, officials of the Milwaukee Public Museum have determined that, pursuant to 25 U.S.C. 3001 (2), there is a relationship of shared group identity that can be reasonably traced between the Native American human remains and associated funerary objects and the Ho¯Chunk Nation of Wisconsin and the Winnebago Tribe of Nebraska.

Representatives of any other Indian tribe that believes itself to be culturally affiliated with the human remains and associated funerary objects should contact Dr. Alex Barker, Anthropology Section Head, Milwaukee Public Museum, 800 West Wells Street, Milwaukee, WI 53233, telephone (414) 278-2786, before December 23, 2004. Repatriation of the human remains and associated funerary objects to the Ho¯Chunk Nation of Wisconsin and the Winnebago Tribe of Nebraska may proceed after that date if no additional claimants come forward.

The Milwaukee Public Museum is responsible for notifying the Ho¯Chunk Nation of Wisconsin; Iowa Tribe of Kansas and Nebraska; Iowa Tribe of Oklahoma; Otoe-Missouria Tribe of Indians, Oklahoma; and Winnebago Tribe of Nebraska that this notice has been published.

Dated: October 7, 2004
Sherry Hutt,
Manager, National NAGPRA Program.

[FR Doc. 04-25919 Filed 11-22-04; 8:45 am]

BILLING CODE 4312-50-S